DEPARTMENT OF COMMERCE

International Trade Administration

[A-351-838, A-533-840, A-549-822]

Certain Frozen Warmwater Shrimp From Brazil, India and Thailand: Notice of Initiation of Administrative Reviews

AGENCY: Import Administration, International Trade Administration, Department of Commerce.

SUMMARY: The Department of Commerce (Department) received timely requests to conduct administrative reviews of the antidumping duty orders on certain frozen warmwater shrimp (shrimp) from Brazil, India and Thailand. The anniversary month of these orders is February. In accordance with 19 CFR 351.221, we are initiating these administrative reviews.

DATES: Effective Date: April 7, 2009.

FOR FURTHER INFORMATION CONTACT: Rebecca Trainor at (202) 482-4007 (Brazil), Elizabeth Eastwood at (202) 482-3874 (India), and Kate Johnson at (202) 482-4929 (Thailand), AD/CVD Operations, Office 2, Import Administration, International Trade Administration, U.S. Department of Commerce, 14th Street and Constitution Avenue, NW., Washington, DC 20230.

Background

The Department received timely requests from the petitioner,¹ the American Shrimp Processors Association, and the Louisiana Shrimp Association, and certain individual companies, in accordance with 19 CFR 351.213(b), during the anniversary month of February 2009, for administrative reviews of the antidumping duty orders on shrimp from Brazil, India, and Thailand. The Department is now initiating administrative reviews of these orders covering 43 companies for Brazil, 332 companies for India, and 185 companies for Thailand, as noted in the “Initiation of Reviews” section of this notice.

¹ The petitioner is the Ad Hoc Shrimp Trade Action Committee.

In accordance with the Department's recent statement in its notice of opportunity to request administrative reviews, we have not initiated administrative reviews with respect to those companies which the Department was unable to locate in prior segments and for which no new information as to the party's location was provided by the requestor (see Antidumping or Countervailing Duty Order, Finding, or Suspended Investigation; Opportunity To Request Administrative Review, 74 FR 6013 (Feb. 4, 2009)). We have also not initiated administrative reviews with respect to those companies we previously determined to be duplicates or no longer exist. See “Initiation of Reviews,” “Incomplete Requests for Review,” and “Requests for Review of Non-Existent Companies” sections of this notice for country-specific lists of the companies for which we did not initiate an administrative review.

Initiation of Reviews

In accordance with section 751(a)(1) of the Tariff Act of 1930, as amended (the Act), we are initiating administrative reviews of the antidumping duty orders on shrimp from Brazil, India and Thailand. We intend to issue the final results of these reviews by February 28, 2010.

| Period to be reviewed
Antidumping Duty Proceeding
Brazil
Certain Frozen Warmwater Shrimp, A-351-838 | 2/1/08-1/31/09
Acarau Pesca Distr. de Pescado Imp. e Exp. Ltda.
Amazonas Industria Alimenticias SA.
Aquacultura Fortaleza Aquafort SA.
Aquática Maricultura do Brasil Ltda./Aquafeed do Brasil Ltda.
Artico S/A.
Bramex Brasil Mercantil Ltda.
Camanor-Produtos Marinhos Ltda.
Cida Central de Ind. E Distribuicao de Alimentos Ltda.
Compescal-Comércio de Pescado Aracatiense Ltda.
Compex Industria E Comercio de Pesca E Exportacao Ltd.
Dafruta Ind. & Comercio.
Esperanca Pescados.
Intermarin Servicios Nauticos.
Ipesca.
ITA Fish-S.W.F. Importacao e Exportacao Ltda.²
ITA Fish Transp. Comercio Pesca.
J K Pesca Ltda.
Leardini Pescados Ltda.
Lusomar Maricultura Ltda.
Maricultura Rio Grandense.
Maricultura Tropical.
Marine Maricultura do Nordeste SA.
MM Monteiro Pesca E Exportacao Ltda.
Mucuripe Pesca Ltda., Epp.
Natal Pesca.
Netuno Alimentos SA/Maricultura Netuno SA.¹
Norte Pesca SA.
Orion Pesca Ltda.
Pesqueira Maguary Ltda.
Potiguar Alimentos do Mar Ltda.
Potipora Aquacultura Ltda.
Qualimar Comercio Importaçao E Exportacao Ltda.
Santa Lavinia Comercio e Exportacio Ltda.
Seafarm Criacao E Comercio de Produtos Aquaticos Ltda.
Secom Aquicultura Comercio E Industria SA.
Silva Embarcacao.
SM Pescados Indústria Comércio E Exportação Ltda.
Sohagro Marina do Nordeste SA.
Tecmares Maricultura Ltda.
Terracor Tdg. Exp. E Imp. Ltda.
Torquato Pontes Pescados SA.
Tropical Pesca Ltda.
Valenca da Bahia Maricultura SA.
India
Certain Frozen Warmwater Shrimp, A-533-840 | 2/1/08-1/31/09
A. S. Marine Industries Pvt. Ltd.
Abad Fisheries.
Accelerated Freeze-Drying Co.
Adani Exports Ltd.
Aditya Udyog.
Agri Marine Exports Ltd.
AL Mustafa Exp & Imp.
Alapatt Marine Exports.
All Seas Marine P. Ltd.
Allanna Frozen Foods Pvt. Ltd.
Allansons Ltd.
Alsa Marine & Harvests Ltd.
Ameena Enterprises.
AMI Enterprises.
Amison Foods Ltd.
Amison Seafoods Ltd.
Amulya Sea Foods.
Anand Aqua Exports.
Ananda Aqua Exports (P) Limited.³
Ananda Foods.³
Andaman Seafoods Pvt. Ltd.
Angelique Intl.
Anjaneya Seafoods.
Anjani Marine Traders.
Apex Exports.⁴
Aqua Star Marine Foods.
Arsha Seafood Exports Pvt. Ltd.
ASF Seafoods.
Ashwini Frozen Foods.
Asvini Exports.
Asvini Fisheries Private Limited.
Aswin Associates.
Avanti Feeds Limited.
Ayshwarya Seafood Private Limited.
Baby Marine (Eastern) Exports.
Baby Marine Exports.
Baby Marine International.
Baby Marine Products.
Baby Marine Sarass.
Balaji Seafood Exports I Ltd.
Baraka Overseas Traders.
Bell Foods (Marine Division).
Bharat Seafoods.
Bhatsons Aquatic Products.
Bhavani Seafoods.
Bhisti Exports.
Bijaya Marine Products.
Bilal Fish Suppliers.
Blue Water Foods & Exports P. Ltd.
Bluefin Enterprises.
Bluepark Seafoods Pvt. Ltd.
BMR Exports.
Britto Exports.
C P Aquaculture (India) Ltd.
Calcutta Seafoods.⁵
Calcutta Seafoods Pvt. Ltd.⁵
Capital Freezing Complex.
Capithan Exporting Co.
Castlerock Fisheries Ltd.
Cham Exports Ltd.
Cham Ocean Treasures Co., Ltd.
Cham Trading Organization.
Chand International.
Chemmeens (Regd).
Cherukattu Industries (Marine Div.).
Choice Canning Company.
Choice Trading Corporation Private Limited.⁴
Coastal Corporation Ltd.
Cochin Frozen Food Exports Pvt. Ltd.
Coreline Exports.
Corlim Marine Exports Pvt. Ltd.
Danda Fisheries.
Dariapur Aquatic Pvt. Ltd.
Deepmala Marine Exports.
Devi Fisheries Limited.⁵
Devi Marine Food Exports Private Ltd.⁶
Devi Sea Foods Limited.
Dhanamjaya Impex P. Ltd.
Diamond Seafood Exports.⁷
Digha Seafood Exports.
Dorothy Foods.
Edhayam Frozen Foods Pvt. Ltd.⁷
El-Te Marine Products.
Esmario Export Enterprises.
Excel Ice Services/Chirag Int'l.
Exporter Coreline Exports.
Falcon Marine Exports Limited.⁴ ⁸
Firoz & Company.
Five Star Marine Exports Private Limited.
Forstar Frozen Foods Pvt. Ltd.
Freeze Engineering Industries (Pvt. Ltd.)
Frigerio Conserva Allana Limited.
Frontline Exports Pvt. Ltd.
G A Randerian Ltd.
G.K S Business Associates Pvt. Ltd.
Gadre Marine Exports.
Gajula Exim P. Ltd.
Galaxy Maritech Exports P. Ltd.
Gausia Cold Storage P. Ltd.
Gayatri Seafoods.
Geo Aquatic Products (P) Ltd.
Geo Seafoods.
Global Sea Foods & Hotel Ltd.
Goan Bounty.
Gold Farm Foods (P) Ltd.
Golden Star Cold Storage.
Goodwill Enterprises.
Gopal Seafoods.
Grandtrust Overseas (P) Ltd.
Gtc Global Ltd.
GVR Exports Pvt. Ltd.
HA & R Enterprises.
Hanswati Exports P. Ltd.
Haripriya Marine Export Pvt. Ltd.
HIC ABF Special Foods Pvt. Ltd.
Hindustan Lever, Ltd.
Hiravata Ice & Cold Storage.
Hiravati Exports Pvt. Ltd.
Hiravati International Pvt. Ltd. (located at Jawar Naka, Porbandar, Gujarat, 360 575, India).
HMG Industries Ltd.
Honest Frozen Food Company.
IFB Agro Industries Ltd.⁴
India CMS Adani Exports.
India Seafoods.
Indian Aquatic Products.
Indian Seafood Corporation.
Indo Aquatics.
Innovative Foods Limited.
Interfish.
International Freezefish Exports.
InterSea Exports Corporation.
Interseas.
ITC Limited, International Business.
ITC Ltd.
J R K Seafoods Pvt. Ltd.
Jagadeesh Marine Exports.
Jaya Satya Marine Exports.⁵
Jaya Satya Marine Exports Pvt. Ltd.⁵
Jayalakshmi Sea Foods Private Limited.
Jinny Marine Traders.
Jiya Packagings.
K R M Marine Exports Ltd.
K V Marine Exports.⁴
K.R. Enterprises.⁸
Kadalkanny Frozen Foods.⁴ ⁷
Kader Exports Private Limited.⁶
Kader Investment and Trading Company Private Limited.⁶
Kalyanee Marine.
Kanch Ghar.
Kaushalya Aqua Marine Product Exports Pvt. Ltd.
Kay Kay Exports.
Keshodwala Foods.
Key Foods.
King Fish Industries.
Kings Marine Products.⁴
Koluthara Exports Ltd.
Konark Aquatics & Exports Pvt. Ltd.
Konkan Fisheries Pvt. Ltd.
L.G Seafoods.
Lakshmi Marine Products.
Lansea Foods Pvt. Ltd.
Laxmi Narayan Exports.
Lewis Natural Foods Ltd.
Liberty Frozen Foods Pvt. Ltd.⁶
Liberty Oil Mills Ltd.⁴ ⁶
Libran Cold Storages (P) Ltd.
Lotus Sea Farms.
Lourde Exports.
M K Exports.
M. R. H. Trading Company.
Magnum Estate Private Limited.
Magnum Export.
Magnum Sea Foods Pvt. Ltd.
Malabar Arabian Fisheries.
Malabar Marine Exports.
Malnad Exports Pvt. Ltd.
Mamta Cold Storage.
Mangala Marine Exim India Pvt. Ltd.
Mangala Sea Products.
Marina Marine Exports.
Marine Food Packers.
Meenaxi Fisheries Pvt. Ltd.
Miki Exports International.
MSC Marine Exporters.
MTR Foods.
Mumbai Kamgar MGSM Ltd.
N.C. Das & Company.
Naga Hanuman Fish Packers.
Naik Frozen Foods.
Naik Ice & Cold Storage.
Naik Seafoods Ltd.
Nas Fisheries Pvt Ltd.
National Seafoods Company.
National Steel.
National Steel & Agro Ind.
Navayuga Exports.⁴ ⁵
Navayuga Exports Ltd.⁵
Nekkanti Sea Foods Limited.
New Royal Frozen Foods.
NGR Aqua International.
Nila Sea Foods Pvt. Ltd.
Noble Aqua Pvt. Ltd.
Nsil Exports.
Omsons Marines Ltd.
Overseas Marine Export.
Padmaja Exports.
Paragon Sea Foods Pvt. Ltd.
Partytime Ice Pvt Ltd.
Penver Products (P) Ltd.
Philips Foods India Pvt Ltd.
Pijikay International Exports P Ltd.
Pisces Seafood International.
Premier Exports International.
Premier Marine Foods.
Premier Marine Products.⁵ ⁶
Premier Seafoods Exim (P) Ltd.
R K Ice & Cold Storage.
R V R Marine Products Private Limited.⁴
R.F. Exports.
Raa Systems Pvt. Ltd.
Rahul Foods (GOA).
Rahul International.
Raj International.
Raju Exports.
Ramalmgeswara Proteins & Foods Ltd.
Rameshwar Cold Storage.
Ram's Assorted Cold Storage Ltd.⁵
Raunaq Ice & Cold Storage.
Ravi Frozen Foods Ltd.
Raysons Aquatics Pvt. Ltd.
Razban Seafoods Ltd.
RBT Exports.
Regent Marine Industries.
Relish Foods.
Riviera Exports Pvt. Ltd.
Rohi Marine Private Ltd.
Royal Link Exports.
Rubian Exports.
Ruby Marine Foods.
Ruchi Worldwide.
S & S Seafoods.
S A Exports.
S Chanchala Combines.
S K Exports (P) Ltd.
S S International.
Sabri Food Products.
Safa Enterprises.
Sagar Foods.
Sagar Grandhi Exports Pvt. Ltd.
Sagar Samrat Seafoods.
Sagarvihar Fisheries Pvt. Ltd.
Sai Marine Exports Pvt. Ltd.⁴
Sai Sea Foods.
Salet Seafoods Pvt Ltd.
Samrat Middle East Exports (P) Ltd.
Sanchita Marine Products P Ltd.
Sandhya Aqua Exports.⁵
Sandhya Aqua Exports Pvt. Ltd.⁵
Sandhya Marines Limited.
Santhi Fisheries & Exports Ltd.
Sarveshwari Ice & Cold Storage P Ltd.
Satya Seafoods Private Limited.⁵
Satyam Marine Exports.
Sawant Food Products.
Sea Rose Marines (P) Ltd.
Seagold Overseas Pvt. Ltd.
Sealand Fisheries Ltd.
Seaperl Industries.
Selvam Exports Private Limited.⁴
Sharat Industries Ltd.
Shimpo Exports.
Shipper Exporter National Steel.
Shippers Exports.
Shroff Processed Food & Cold ZStorage P Ltd.
Siddiq Seafoods.
Silver Seafood.
Sita Marine Exports.
Skyfish.
SLS Exports Pvt. Ltd.
Sonia Fisheries.
Sourab.
Sprint Exports Pvt. Ltd.⁴
Sreevas Export Enterprises.
Sri Chandrakantha Marine Exports.⁴
Sri Sakkthi Cold Storage.
Sri Sakthi Marine Products P Ltd.
Sri Satya Marine Exports.
Sri Sidhi Freezers & Exporters Pvt. Ltd.
Sri Venkata Padmavathi Marine Foods Pvt. Ltd.
SSF Ltd.
Star Agro Marine Exports Private Limited.
Star Fish Exports.
Sterling Foods.
Sun-Bio Technology Ltd.
Supreme Exports.
Suryamitra Exim (P) Ltd.
Suvarna Rekha Exports Private Limited.
Suvarna Rekha Marines P Ltd.
TBR Exports Pvt Ltd.
Teekay Maine P. Ltd.
Tejaswani Enterprises.
The Canning Industries (Cochin) Ltd.
The Waterbase Ltd.
Theva & Company.⁷
Tony Harris Seafoods Ltd.
Tri Marine Foods Pvt. Ltd.
Trinity Exports.
Tri-Tee Seafood Company.
Triveni Fisheries P Ltd.
Ulka Seafoods (P) Ltd.
Uniroyal Marine Exports Ltd.
Universal Cold Storage Private Limited.⁴ ⁶
Upasana Exports.
Usha Seafoods.⁵
V Marine Exports.
V.S Exim Pvt Ltd.
Vaibhav Sea Foods.
Varnita Cold Storage.
Veejay Impex.
Veraval Marines & Chemicals P Ltd.
Victoria Marine & Agro Exports Ltd.
Vijayalaxmi Seafoods.
Vinner Marine.
Vishal Exports.
Wellcome Fisheries Limited.
Winner Seafoods.
Z A. Food Products.
¹ In the 2006-2007 administrative review, we determined that Netuno Alimentos S.A. and Maricultura Netuno should be treated as a single entity.See Certain Frozen Warmwater Shrimp from Brazil: Final Results and Partial Rescission of Antidumping Duty Administrative Review 73 FR 39940, 39941 (July 11, 2008). Absent information to the contrary, we intend to continue to treat these companies as a single entity for purposes of this administrative review.
² We received two review requests for SM Pescados Industria Comercio E Exportacao Ltda, with virtually the same address. Therefore, we are including this company only once for purposes of initiation of this administrative review.
³ In the 2007-2008 administrative review, the Department preliminarily found that the following companies comprised a single entity: Ananda Aqua Exports (P) Ltd., Ananda Foods, and Ananda Aqua Applications.See Certain Frozen Warmwater Shrimp From India: Preliminary Results and Preliminary Partial Rescission of Antidumping Duty Administrative Review, 74 FR 9991, 9994 (Mar. 9, 2009) (2007-2008 Indian Shrimp Preliminary Results). If the Department continues to make this finding in the final results of the 2007-2008 administrative review, we will continue to treat these companies as a single entity for purposes of this administrative review, absent information to the contrary.
⁴ The interested parties' requests for review included certain companies with similar names and/or addresses. For purposes of initiation, we have treated these companies as the same entity based on information obtained in the 2004-2006, 2006-2007, or 2007-2008 administrative review.See the March 31, 2009, memorandum from Holly Phelps to the File entitled, “Placing Public Information from the 2004-2006, 2006-2007, and 2007-2008 Antidumping Duty Administrative Reviews on the Record of the 2008-2009 Antidumping Duty Administrative Review on Certain Frozen Warmwater Shrimp from India.”See also Certain Frozen Warmwater Shrimp From India; Partial Rescission of Antidumping Duty Administrative Review, 71 FR 41419, 41420 (July 21, 2006).
⁵ We have received multiple review requests for companies with the same or nearly same name but different addresses. For purposes of initiation, we have treated these companies as separate entities.
⁶ In the 2004-2006 administrative review, the Department found that the following companies comprised a single entity: Devi Marine Food Exports Private Limited, Kader Investment and Trading Company Private Limited, Kader Exports Private Limited, Liberty Frozen Foods Private Limited, Liberty Oil Mills Limited, Premier Marine Products, and Universal Cold Storage Private Limited. See Certain Frozen Warmwater Shrimp from India: Final Results and Partial Rescission of Antidumping Duty Administrative Review, 72 FR 52055, 52058 (Sept. 12, 2007). Absent information to the contrary, we intend to continue to treat these companies as a single entity for purposes of this administrative review.
⁷ In the 2006-2007 administrative review, the Department found that the following companies comprised a single entity: Diamond Seafoods Exports, Edhayam Frozen Foods Pvt. Ltd., Kadalkanny Frozen Foods, and Theva & Company. See Certain Frozen Warmwater Shrimp from India: Preliminary Results and Preliminary Partial Rescission of Antidumping Duty Administrative Review, 73 FR 12103, 12106 (Mar. 6, 2008), unchanged in Certain Frozen Warmwater Shrimp From India: Final Results and Partial Rescission of Antidumping Duty Administrative Review, 73 FR 40492 (July 15, 2008) (2006-2007 Indian Shrimp Final Results). Absent information to the contrary, we intend to continue to treat these companies as a single entity for purposes of this administrative review.
⁸ In the 2007-2008 administrative review, the Department preliminarily found that the following companies comprised a single entity: Falcon Marine Exports Limited and K.R. Enterprises.See 2007-2008 Indian Shrimp Preliminary Results, 74 FR at 9994. If the Department continues to make this finding in the final results of the 2007-2008 administrative review, we will continue to treat these companies as a single entity for purposes of this administrative review, absent information to the contrary.

| Period to be reviewed
Antidumping Duty Proceeding
Thailand
Certain Frozen Warmwater Shrimp, A-549-822 | 2/1/08-1/31/09 ² ³
A. Wattanachai Frozen Products Co., Ltd.
A.S. Intermarine Foods Co., Ltd.
ACU Transport Co., Ltd.
American Commercial Transport (Thailand).
Ampai Frozen Food Co., Ltd.
Andaman Seafood Co., Ltd.⁹
Anglo-Siam Seafoods Co., Ltd.
Apex Maritime (Thailand) Co., Ltd.
Apitoon Enterprise Industry Co., Ltd.
Applied DB Ind.
Asia Pacific (Thailand) Co., Ltd. ¹¹
Asian Seafood Coldstorage (Sriracha).
Asian Seafoods Coldstorage Public Co., Ltd.
Asian Seafoods Coldstorage (Suratthani) Co., Limited ¹⁰
Asian Seafoods Coldstorage (Suratthani) Co.¹⁰
Assoc. Commercial Systems.
B.S.A. Food Products Co., Ltd.
Bangkok Dehydrated Marine Product Co., Ltd.
Bright Sea Co., Ltd.
C.P. Merchandising Co., Ltd.
C P Mdse.
C P Retailing and Marketing Co., Ltd.
C Y Frozen Food Co., Ltd.
Chaivaree Marine Products Co., Ltd.
Chaiwarut Co., Ltd.
Chanthaburi Frozen Foods Co., Ltd.⁹
Chanthaburi Seafoods Co., Ltd.⁹ ¹⁵
Charoen Pokphand Foods Public Co., Ltd.
Chonburi L C.
Chue Eie Mong Eak Ltd. Part.
Core Seafood Processing Co., Ltd.
Crystal Frozen Foods Co., Ltd. and/or Crystal Seafood.
Daedong (Thailand) Co. Ltd.
Daiei Taigen (Thailand) Co., Ltd.
Daiho (Thailand) Co., Ltd.
Dynamic Intertransport Co., Ltd.
Earth Food Manufacturing Co., Ltd.
Euro-Asian International Seafoods Co., Ltd.
F.A.I.T. Corporation Limited.
Far East Cold Storage Co., Ltd.
Findus (Thailand) Ltd.
Fortune Frozen Foods (Thailand) Co., Ltd.
Frozen Marine Products Co., Ltd.
GSE Lining Technology Co., Ltd.
Gallant Ocean (Thailand) Co., Ltd.
Gallant Seafoods Corporation.
Global Maharaja Co., Ltd.
Golden Sea Frozen Foods.
Golden Sea Frozen Foods Co., Ltd.
Good Fortune Cold Storage Co., Ltd.
Good Luck Product Co., Ltd.
Grobest Frozen Foods Co., Ltd.
Gulf Coast Crab Intl.
H.A.M. International Co., Ltd.
Haitai Seafood Co., Ltd.
Handy International (Thailand) Co., Ltd.
Heng Seafood Limited Partnership.
Heritrade Co., Ltd.
HIC (Thailand) Co., Ltd.
High Way International Co., Ltd.
I.T. Foods Industries Co., Ltd.
Inter-Oceanic Resources Co., Ltd.
Inter-Pacific Marine Products Co., Ltd.¹⁵
Intersia Foods Co., Ltd.
K Fresh.
K. D. Trading Co., Ltd.
KF Foods.
K.L. Cold Storage Co., Ltd.
K & U Enterprise Co., Ltd.
Kiang Huat Sea Gull Trading Frozen Food Public Co., Ltd.
Kingfisher Holdings Ltd.
Kibun Trdg.
Klang Co., Ltd.
Kitchens of the Ocean (Thailand) Ltd.
Kongphop Frozen Foods Co., Ltd.
Kosamut Frozen Foods Co., Ltd.
Lee Heng Seafood Co., Ltd.
Leo Transports.
Li-Thai Frozen Foods Co., Ltd.
Lucky Union Foods Co., Ltd.¹⁴
Maersk Line.
MKF Interfood (2004) Co., Ltd.
Magnate & Syndicate Co., Ltd.
Mahachai Food Processing Co., Ltd.
Marine Gold Products Co., Ltd.
May Ao Co., Ltd.
May Ao Foods Co., Ltd.
Merit Asia Foodstuff Co., Ltd.
Merkur Co., Ltd.
Ming Chao Ind Thailand.
N&N Foods Co., Ltd.
Namprik Maesri Ltd. Part.
Narong Seafood Co., Ltd.¹³
Nongmon SMJ Products.
NR Instant Produce Co., Ltd.¹⁴
Okeanos Company Ltd. and/or Okeanos Food Company Limited ¹¹
Ongkorn Cold Storage Co., Ltd.
Pacific Queen Co., Ltd.
Pakfood Public Company Limited ¹¹
Penta Impex Co., Ltd.
Phatthana Frozen Food Co., Ltd.⁹
Phatthana Seafood Co., Ltd.⁹
Pinwood Nineteen Ninety Nine.
Piti Seafoods Co., Ltd.
Premier Frozen Products Co., Ltd.
Preserved Food Specialty Co., Ltd.
Queen Marine Food Co., Ltd.
Rayong Coldstorage (1987) Co., Ltd.
S&D Marine Products Co., Ltd.
S&P Aquarium.
S&P Syndicate Public Company Ltd.
S. Chaivaree Cold Storage Co., Ltd.
S.C.C. Frozen Seafood Co., Ltd.
SCT Co., Ltd.
S. Khonkaen Food Industry Public Co., Ltd.
and/or S. Khonkaen Food Ind Public.
SMP Food Product Co., Ltd.
Samui Foods Company Limited.
Sea Bonanza Food Co., Ltd.¹³
SEA NT'L CO., LTD.
Sea Wealth Frozen Food Co., Ltd.⁹
Seafoods Enterprise Co., Ltd.
Seafresh Fisheries.
Seafresh Industry Public Co., Ltd.
Search & Serve.
Shianlin Bangkok Co., Ltd.
Siam Canadian Foods Co., Ltd.
Siam Food Supply Co., Ltd.
Siam Intersea Co., Ltd.
Siam Marine Products Co. Ltd.
Siam Ocean Frozen Foods Co. Ltd.
Siam Union Frozen Foods.
Siamchai International Food Co., Ltd.
Sky Fresh Co., Ltd.
Smile Heart Foods Co. Ltd.
Songkla Canning.
Southport Seafood.
Star Frozen Foods Co., Ltd.
STC Foodpak Ltd.
Suntechthai Intertrading Co., Ltd.
Surapon Nichirei Foods Co., Ltd.
Surapon Seafoods Public Co., Ltd.
Surapon Foods Public Co., Ltd.
Surapon Seafood.
Surat Seafoods Co., Ltd.
Suratthani Marine Products Co., Ltd.
Suree Interfoods Co., Ltd.
T.S.F. Seafood Co., Ltd.
Tanaya International Co., Ltd.
Tanaya Intl.
Takzin Samut ¹¹
Teppitak Seafood Co., Ltd.
Tey Seng Cold Storage Co., Ltd.
Tep Kinsho Foods Co., Ltd.
Thai-Ger Marine Co., Ltd.
Thai Agri Foods Public Co., Ltd.
Thai Excel Foods Co., Ltd.
Thai I-Mei Frozen Foods Co., Ltd.
Thai International Seafoods Co., Ltd.⁹
Thai Mahachai Seafood Products Co., Ltd.
Thai Ocean Venture Co., Ltd.
Thai Patana Frozen.
Thai Prawn Culture Center Co., Ltd.
Thai Royal Frozen Food Co. Ltd.
Thai Spring Fish Co., Ltd.
Thai Union Frozen Products Public Co., Ltd.¹²
Thai Union Manufacturing Co., Ltd. and/or Thai Union Mfg.
Thai Union Seafood Co., Ltd.¹²
Thai World Imports & Exports.
Thai Yoo Ltd., Part.
Thailand Fishery Cold Storage Public Co., Ltd.⁹ ¹⁵
The Siam Union Frozen Foods Co., Ltd.
The Union Frozen Products Co., Ltd.
Trang Seafood Products Public Co., Ltd.
Transamut Food Co., Ltd.
Tung Lieng Trdg.
United Cold Storage Co., Ltd.
V Thai Food Product.
Wales & Co. Universe Ltd.⁹
Wann Fisheries Co., Ltd.
Xian-Ning Seafood Co., Ltd.
Y2K Frozen Foods Co., Ltd.
Yeenin Frozen Foods Co., Ltd.
YHS Singapore Pte.
ZAFCO TRDG.
² The period of review (POR) for Thai-I-Mei Frozen Foods Co., Ltd. is February 1, 2008, through January 15, 2009. See Implementation of the Findings of the WTO Panel in United States—Antidumping Measure on Shrimp from Thailand: Notice of Determination Under Section 129 of the Uruguay Round Agreements Act and Partial Revocation of the Antidumping Duty Order on Frozen Warmwater Shrimp from Thailand, 74 FR 5638, 5639 (January 30, 2009) (Implementation of the Findings of the WTO Panel).
³ The POR for the following companies comprising the Rubicon Group as defined in the less-than-fair-value investigation is February 1, 2008, through January 15, 2009: Andaman Seafood Co., Ltd., Chanthaburi Seafood Co., Ltd., Chanthaburi Frozen Foods Co., Ltd., Intersia Foods Co., Ltd., Phattana Seafood Co., Ltd., S.C.C. Frozen Seafood Co., Ltd., Thai International Seafoods Co., Ltd., Thailand Fishery Cold Storage Public Co., Ltd., and Wales & Co. Universe Ltd. See Implementation of the Findings of the WTO Panel, 74 FR at 5639.
⁹ In the 2007-2008 administrative review, the Department stated that the following companies comprised a single entity: Andaman Seafood Co., Ltd., Chanthaburi Seafood Co., Ltd., Chanthaburi Frozen Foods Co., Ltd., Phattana Frozen Food Co., Ltd., Phattana Seafood Co., Ltd., Thai International Seafoods Co., Ltd., Thailand Fishery Cold Storage Public Co., Ltd., Sea Wealth Frozen Food Co., Ltd., and Wales & Co. Universe Ltd. See Memorandum to James Maeder from Irina Itkin entitled, “2007-2008 Antidumping Duty Administrative Review on Certain Frozen Warmwater Shrimp from Thailand: Selection of Respondents for Individual Review,” dated May 27, 2008. Absent information to the contrary, we intend to continue to treat these companies as a single entity for purposes of this administrative review.
¹⁰ The requests for review included certain companies with similar names but different addresses. For purposes of initiation, we have treated these companies as separate entities.
¹¹ In the 2004-2006 administrative review, the Department found that the following companies comprised a single entity: Pakfood Public Company Limited, Asia Pacific (Thailand) Co., Ltd. and Takzin Samut Company Limited. See Certain Frozen Warmwater Shrimp from Thailand: Final Results and Final Partial Rescission of Antidumping Duty Administrative Review, 72 FR 52065 (Sept. 12, 2007). However, the review request for this administrative review was made on behalf of Pakfood Public Company Limited and its subsidiaries Asia Pacific (Thailand) Co., Ltd., Okeanos Company Ltd., and Okeanos Food Company Ltd.
¹² In the 2006-2007 administrative review, the Department found that the following companies comprised a single entity: Thai Union Frozen Products Co., Ltd. and Thai Union Seafood Co., Ltd. See Certain Frozen Warmwater Shrimp from Thailand: Preliminary Results and Preliminary Partial Rescission of Antidumping Duty Administrative Review, 73 FR 12088 (Mar. 6, 2008) (Thai Shrimp 06-07 Prelim), unchanged in Certain Frozen Warmwater Shrimp from Thailand: Final Results and Final Partial Rescission of Antidumping Duty Administrative Review, 73 FR 50933 (August 29, 2008) (Thai Shrimp 06-07 Final). Absent information to the contrary, we intend to continue to treat these companies as a single entity for purposes of this administrative review.
¹³ The requests for review included certain companies with identical/similar names but different addresses. For purposes of initiation, we have treated these companies as the same entity based on information obtained in the 2004-2006 administrative review. See 2006-2007 Administrative Review Initiation Notice, 72 FR at 17107.
¹⁴ The requests for review included certain companies with identical names but different addresses. For purposes of initiation, we have treated these companies as separate entities.
¹⁵ The requests for review included certain companies with duplicate names. We have initiated a review on the correct company names (i.e., Chanthaburi Seafoods Co., Ltd., Thailand Fishery Cold Storage Public Co., Ltd., and Inter-Pacific Marine Products Co., Ltd.), but have not initiated a review on the duplicate names (i.e., Chantaburi Seafood Co., Ltd., Fishery Cold Storage Public, and International Pacific Marine Products,) based on information obtained in the 2006-2007 administrative review. See Certain Frozen Warmwater Shrimp from Thailand; Partial Rescission of Antidumping Duty Administrative Review, 72 FR 50931, 50932 (Sept. 5, 2007); Thai Shrimp 06-07 Prelim, 73 FR at 12090, unchanged in Thai Shrimp 06-07 Final.

Incomplete Requests for Review

We have not initiated administrative reviews with respect to the companies listed below which the Department was unable to locate in prior segments and for which no new information as to the party's location was provided by the requestor. See, e.g., Certain Frozen Warmwater Shrimp from Brazil, Ecuador, India and Thailand: Notice of Initiation of Administrative Review, 73 FR 18754 (April 7, 2008).

Brazil

Camexim Captura Mec Exports Imports

India

Royal Cold Storage India P Ltd.

Thailand

None.

Requests for Review of Non-Existent Companies

We have not initiated administrative reviews with respect to the companies listed below for India, which the Department determined in prior administrative reviews no longer exist. See 2006-2007 Indian Shrimp Final Results, 73 FR at 40493.

India

Asvini Fisheries Ltd.

Surya Marine Exports

Notice of No Sales

Under 19 CFR 351.213(d)(3), the Department may rescind a review where there are no exports, sales, or entries of subject merchandise during the POR. If a producer or exporter named in this notice of initiation had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Act. Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

Section 777A(c)(1) of the Act directs the Department to calculate individual dumping margins for each known exporter and producer of the subject merchandise. Where it is not practicable to examine all known producers/exporters of subject merchandise because of the large number of such companies, section 777A(c)(2) of the Act permits the Department to limit its examination to either: (1) a sample of exporters, producers or types of products that is statistically valid based on the information available at the time of selection; or (2) exporters and producers accounting for the largest volume of subject merchandise from the exporting country that can be reasonably examined. Due to the large number of firms requested for these administrative reviews and the resulting administrative burden to review each company for which a request has been made, the Department is exercising its authority to limit the number of respondents selected for review. See section 777A(c)(2) of the Act. In selecting the respondents for individual review, the Department intends to select respondents based on U.S. Customs and Border Protection (CBP) data for U.S. imports during the POR.

We intend to release the CBP data under administrative protective order (APO) to all parties having an APO within five days of publication of this Federal Register notice, and to make our decisions regarding respondent selection within 20 days of publication of this notice. The Department invites comments regarding the CBP data and respondent selection within 10 days of publication of this Federal Register notice.

Interested parties must submit applications for disclosure under APO in accordance with 19 CFR 351.305. Instructions for filing such applications may be found on the Department's Web site at http://ia.ita.doc.gov/apo.

This initiation and notice are in accordance with section 751(a)(1) of the Act and 19 CFR 351.221(c)(1)(i).

Dated: March 31, 2009.
Gary Taverman,
Acting Deputy Assistant Secretary for Antidumping and Countervailing Duty Operations.

[FR Doc. E9-7862 Filed 4-6-09; 8:45 am]

BILLING CODE 3510-DS-P